DEPARTMENT OF DEFENSE

Office of the Secretary

Notice of Publication of Housing Price Inflation Adjustment

AGENCY: Office of the Under Secretary of Defense for Personnel and Readiness, Department of Defense (DoD).

ACTION: Notice of housing price inflation adjustment for calendar year 2025.

SUMMARY: The DoD is publishing this notice to announce the 2025 Rent Threshold under the Servicemembers Civil Relief Act (SCRA). Applying the housing price inflation adjustment, the maximum monthly rental amount calculated as of January 1, 2025, is $10,239.63.

DATES: These housing price inflation adjustments are effective January 1, 2025.

FOR FURTHER INFORMATION CONTACT: Mr. Mike Yedinak, (703) 571-0106 (voice), osd.pentagon.ousd-p-r.mbx.legal-policy@mail.mil (email).

SUPPLEMENTARY INFORMATION: The SCRA, as codified at 50 United States Code (U.S.C.) 3951, prohibits a landlord from evicting a service member (or the service member's family) from a residence during a period of military service, except by court order. The law as originally passed by Congress applied to dwellings with monthly rents of $2,400 or less. The SCRA requires the Secretary of Defense to adjust this amount annually to reflect inflation and to publish the new amount in the Federal Register. Applying the housing price inflation adjustment for 2025, the maximum monthly rental amount for 50 U.S.C. 3951(a)(1)(A)(2) as of January 1, 2025, is $10,239.63.

Dated: May 14, 2025.
Stephanie J. Bost,
Alternate OSD Federal Register Liaison Officer, Department of Defense.

[FR Doc. 2025-08911 Filed 5-19-25; 8:45 am]

BILLING CODE 6001-FR-P